DEPARTMENT OF HEALTH AND HUMAN SERVICES

Health Care Financing Administration

[HCFA-3031-N]

Medicare Program; Meeting of the Executive Committee of the Medicare Coverage Advisory Committee—March 1, 2000

AGENCY: Health Care Financing Administration (HCFA), HHS.

ACTION: Notice of meeting.

SUMMARY: This notice announces a public meeting of the Executive Committee of the Medicare Coverage Advisory Committee (MCAC). The Committee provides advice and recommendations to us about clinical coverage issues. The Committee will hear reports from its subcommittee, and will discuss and consider the levels of evidence (including the types and presentation format of information) that it believes should be considered by the medical specialty panels of the MCAC at future public meetings. Notice of this meeting is given under the Federal Advisory Committee Act (5 U.S.C. App. 2, section 10(a)(1) and (a)(2)).

DATES: The Meeting: March 1, 2000, from 8 a.m. until 4 p.m., E.D.T.

Deadline for Presentation Submissions: February 10, 2000.

Special Accommodations: Persons attending the meeting who are hearing or visually impaired and have special requirements, or a condition that requires special assistance or accommodations, must notify the Executive Secretary by February 15, 2000.

ADDRESSES: The Meeting: The meeting will be held at the Health Care Financing Administration, 7500 Security Boulevard, Baltimore, MD 21244.

Presentations and Comments: Submit formal presentations and written comments to Sharon Lappalainen, Executive Secretary; Office of Clinical Standards and Quality; Health Care Financing Administration; 7500 Security Boulevard; Mail Stop S3-02-01; Baltimore, MD 21244.

Website: You may access up-to-date information on this meeting at www.hcfa.gov/quality/8b.htm.

FOR FURTHER INFORMATION CONTACT: Sharon Lappalainen, Executive Secretary, (410) 786-9262.

SUPPLEMENTARY INFORMATION: On August 13, 1999, we published a notice (64 FR 44231) describing the Medicare Coverage Advisory Committee (MCAC), which provides advice and recommendations to us about clinical coverage issues. This notice announces the following public meeting of the MCAC:

Current Members of the Panel

Harold C. Sox, MD (Chairperson); Thomas V. Holohan, MD (FACP); Leslie P. Francis, JD, PhD; John H. Ferguson, MD; Robert L. Murray, PhD; Alan M. Garber, MD, PhD; Michael D. Maves, MD, MBA; David M. Eddy, MD, PhD; Frank J. Papatheofanis, MD, PhD; Ronald M. Davis, MD; Daisy Alford-Smith, PhD; Joe W. Johnson, DC; Robert H. Brook, MD, ScD; Linda A. Bergthold, PhD; Randel E. Richner, MPH.

Topic of the Meeting

The Committee will hear reports from its subcommittee, and will discuss and consider the levels of evidence (including the types and presentation format of information) that it believes should be considered by the medical specialty panels of the MCAC at future public meetings.

Procedure and Agenda

This meeting is open to the public. The Committee will hear oral presentations from the public for approximately one hour. The Committee may limit the number and duration of oral presentations to the time available. If you wish to make a formal presentation, you must notify the For Further Information Contact, and submit the following by the Deadline for Presentations and Comments date listed in the DATES section of this notice: a brief statement of the general nature of the evidence or arguments you wish to present, the names and addresses of proposed participants, and an estimate of the time required to make the presentation. We will request that you declare at the meeting whether or not you have any financial involvement with manufacturers of any items or services being discussed (or with their competitors).

After the public presentation, we will make a presentation to the Committee. After our presentation, the Committee will deliberate openly on the topic. Interested persons may observe the deliberations, but the Committee will not hear further comments during this time except at the request of the chairperson. At the end of the Committee deliberations, the Committee will allow a 30-minute open public session for any attendee to address issues specific to the topic. After which, the members will vote and the Committee will make its recommendation.

Authority: 5 U.S.C. App. 2, section 10(a)(1) and (a)(2).

(Catalog of Federal Domestic Assistance Program No. 93.774, Medicare-Supplementary Medical Insurance Program)

Dated: January 18, 2000.
Jeffrey L. Kang,
Director, Office of Clinical Standards and Quality, Health Care Financing Administration.

[FR Doc. 00-2313 Filed 2-1-00; 8:45 am]

BILLING CODE 4120-01-P